DEPARTMENT OF AGRICULTURE

Forest Service

Grays Harbor Resource Advisory Committee (RAC); Meeting

AGENCY: Forest Service, USDA.

ACTION: Notice of meeting.

SUMMARY: The Grays Harbor Resource Advisory Committee will hold its first meeting on January 8, 2002. The meeting will be held at the Grays Harbor County Courthouse, Montesano, Washington. The meeting will begin at 9:30 AM and end at approximately 3:45 PM. Agenda topics are: (1) Introductions; (2) Federal Advisory Committee Act (FACA) overview; (3) Resource Advisory Committee (RAC) Roles and Responsibilities; (4) RAC Rules and Bylaws; (5) RAC Guidebook review; (6) RAC Communication; (7) Future meetings and agendas; (8) Project Process for submission; (9) County Update on Title II Projects; (10) Election of RAC Chairperson; and (11) Public comments.

All Grays Harbor Resource Advisory Committee Meetings are open to the public. Interested citizens are encouraged to attend.

FOR FURTHER INFORMATION CONTACT: Direct questions regarding this meeting to Ken Eldredge, RAC Liaison, USDA, Olympic National Forest Headquarters, 1835 Black Lake Blvd., Olympia, WA 98512-5623, (360) 956-2323 or Dale Hom, Forest Supervisor and Designated Federal Official, at (360) 956-2301.

Dated: December 7, 2001.
Luis Santoto,
Acting Forest Supervisor, Olympic National Forest.

[FR Doc. 01-30859 Filed 12-13-01; 8:45 am]

BILLING CODE 3410-11-M